DEPARTMENT OF LABOR

Employment and Training Administration

[TA-W-52,582]

AT&T Wireless Services, Inc., Call Center, Livermore, CA; Notice of Termination of Investigation

Pursuant to section 221 of the Trade Act of 1974, as amended, an investigation was initiated on August 18, 2003 in response to a worker petition filed by a state agency representative on behalf of workers at AT&T Wireless Services, Inc., Call Center, Livermore, California.

The petitioner has requested that the petition be withdrawn. Consequently, the investigation has been terminated.

Signed at Washington, DC, this 3rd day of September, 2003.
Richard Church,
Certifying Officer, Division of Trade Adjustment Assistance.

[FR Doc. 03-24694 Filed 9-29-03; 8:45 am]

BILLING CODE 4510-30-P